FEDERAL ELECTION COMMISSION

[Notice 2014-06]

Filing Dates for the New Jersey Special Elections in the 1st Congressional District

AGENCY: Federal Election Commission.

ACTION: Notice of filing dates for special elections.

SUMMARY: New Jersey has scheduled special elections on June 3, 2014, and November 4, 2014, to fill the U.S. House of Representatives seat vacated by Representative Robert E. Andrews.

Committees required to file reports in connection with the Special Primary Election on June 3, 2014, shall file a 12-day Pre-Primary Report. Committees required to file reports in connection with both the Special Primary and the Special General Election on November 4, 2014, shall file a 12-day Pre-Primary Report, 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the New Jersey Special Primary and Special General Elections shall file a 12-day Pre-Primary Report on May 22, 2014; a 12-day Pre-General Report on October 23, 2014; and a Post-General Report on December 4, 2014. (See charts below for the closing date for each report.)

All principal campaign committees of candidates participating only in the Special Primary Election shall file a 12-day Pre-Primary Report on May 22, 2014. (See charts below for the closing date for each report.)

Unauthorized Committees (PACs and Party Committees)

Political committees filing on a quarterly basis in 2014 are subject to special election reporting if they make previously undisclosed contributions or expenditures in connection with the New Jersey Special Primary or Special General Elections by the close of books for the applicable report(s). (See chart below for the closing date for each report).

Committees filing monthly that make contributions or expenditures in connection with the New Jersey Special Primary or General Elections will continue to file according to the monthly reporting schedule.

Additional disclosure information in connection with the New Jersey Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,300 during the special election reporting periods (see charts below for closing date of each period). 11 CFR 104.22(a)(5)(v) and (b).

Calendar of Reporting Dates for New Jersey Special Election
Report | Close of books ¹ | Reg./cert. & overnight mailing deadline | Filing deadline
COMMITTEES INVOLVED IN ONLY THE SPECIAL PRIMARY (06/03/14) MUST FILE:
Pre-Primary | 05/14/14 | 05/19/14 | 05/22/14
July Quarterly | 06/30/14 | 07/15/14 | 07/15/14
COMMITTEES INVOLVED IN BOTH THE SPECIAL PRIMARY (06/03/14) AND SPECIAL GENERAL (11/04/14) MUST FILE:
Pre-Primary | 05/14/14 | 05/19/14 | 05/22/14
July Quarterly | 06/30/14 | 07/15/14 | 07/15/14
October Quarterly | 09/30/14 | 10/15/14 | 10/15/14
Pre-General | 10/15/14 | 10/20/14 | 10/23/14
Post-General | 11/24/14 | 12/04/14 | 12/04/14
Year-End | 12/31/14 | 01/31/15 | ² 01/31/15
COMMITTEES INVOLVED IN ONLY THE SPECIAL GENERAL (11/04/14) MUST FILE:
Pre-General | 10/15/14 | 10/20/14 | 10/23/14
Post-General | 11/24/14 | 12/04/14 | 12/04/14
Year-End | 12/31/14 | 01/31/15 | ² 01/31/15
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than Registered, Certified or Overnight Mail, or electronically, must be received before the Commission's close of business on the last business day before the deadline.

On behalf of the Commission.
Dated: March 13, 2014.
Lee E. Goodman,
Chairman, Federal Election Commission.

[FR Doc. 2014-05997 Filed 3-18-14; 8:45 am]

BILLING CODE 6715-01-P